DEPARTMENT OF THE INTERIOR

Bureau of Land Management

Fish and Wildlife Service

[BLM_FRN_MO4500175331]

Notice of Availability of the Draft Supplemental Environmental Impact Statement To Reconsider a Highway Right-of-Way Application and Associated Amendment of an Incidental Take Permit, Washington County, Utah

AGENCY: Bureau of Land Management, Fish and Wildlife Service, Interior.

ACTION: Notice of availability.

SUMMARY: In compliance with the National Environmental Policy Act of 1969, as amended (NEPA), the Federal Land Policy and Management Act of 1976, as amended (FLPMA), and the Endangered Species Act of 1973, as amended (ESA), the Bureau of Land Management (BLM) and the Fish and Wildlife Service (FWS), as co-lead agencies, announce the availability of the Draft Supplemental Environmental Impact Statement (SEIS) for the Northern Corridor Project (a proposed highway) as well as a potential amendment to the Incidental Take Permit (ITP) issued to Washington County, Utah, under section 10(a)(1)(B) of the ESA.

DATES: To afford the BLM and FWS the opportunity to consider comments in the Final SEIS, please ensure the agencies receive your comments within 45 days following the date the Environmental Protection Agency (EPA) publishes its Notice of Availability (NOA) of the Draft SEIS in the Federal Register. The EPA usually publishes its NOAs on Fridays.

ADDRESSES: The Draft SEIS is available for review on the BLM ePlanning project website at https://eplanning.blm.gov/eplanning-ui/project/2026562/510. Click the Documents link on the left side of the screen to find the electronic versions of these materials. Written comments related to the highway right-of-way (ROW) and associated potential amendment of an ITP can be submitted by either of the following methods:

• Website: https://eplanning.blm.gov/eplanning-ui/project/2026562/510.

• Mail: Bureau of Land Management, Attn: Northern Corridor SEIS, 345 East Riverside Drive, St. George, UT 84790.

FOR FURTHER INFORMATION CONTACT: Dawna Ferris-Rowley, NCA Manager, Red Cliffs and Beaver Dam Wash NCAs, telephone (435) 688-3200; address 345 East Riverside Drive, St. George, UT 84790; email BLM_UT_NorthernCorridor@blm.gov. Contact Ms. Ferris-Rowley to have your name added to our mailing list. Individuals in the United States who are deaf, deafblind, hard of hearing, or have a speech disability may dial 711 (TTY, TDD, or TeleBraille) to access telecommunications relay services for contacting Ms. Ferris-Rowley. Individuals outside the United States should use the relay services offered within their country to make international calls to the point-of-contact in the United States. Replies are provided during normal business hours. If you would like to request to view a hard copy, please call the St. George Field Office for more information at (435) 688-3200, Monday through Friday, except holidays.

SUPPLEMENTARY INFORMATION: The BLM and FWS are issuing this NOA pursuant to NEPA, 42 United States Code (U.S.C.) 4321 et seq.; the Council on Environmental Quality regulations for implementing NEPA, 40 Code of Federal Regulations (CFR) parts 1500-1508; and the Department of the Interior's NEPA regulations, 43 CFR part 46.

The Draft SEIS has been prepared to supplement the analysis contained in the 2020 Final EIS (FEIS) by BLM and FWS. (The entire FEIS can be found at: https://eplanning.blm.gov/eplanning-ui/project/1502103/570.)

On September 4, 2018, the Utah Department of Transportation (UDOT) applied for a ROW grant for the Northern Corridor Project north of the City of St. George, Utah, on BLM-managed and non-Federal lands within the Red Cliffs National Conservation Area (NCA) and Red Cliffs Desert Reserve. To consider the application, the BLM needed to also consider amending the St. George Field Office and Red Cliffs NCA Resource Management Plans (RMPs). The Red Cliffs NCA was established through the passage of the Omnibus Public Land Management Act of 2009 (16 U.S.C. 460www). Prior to the NCA's designation, the Red Cliffs Desert Reserve was established for the protection of the Mojave desert tortoise as part of the 1995 Washington County Habitat Conservation Plan (HCP). In 2015, pursuant to section 10(a)(1)(B) of the ESA, Washington County applied to renew and amend the HCP and associated ITP. The restated and amended HCP described the Northern Corridor highway as a potential changed circumstance, which would be partially offset with the addition of a new sixth zone to the Red Cliffs Desert Reserve (Reserve Zone 6) as the primary conservation strategy.

In 2019-2020, in accordance with NEPA, the BLM and FWS prepared an EIS to analyze the environmental impacts associated with the proposed action and reasonable alternatives. The BLM also consulted with the FWS to meet the requirements in section 7(a)(2) of the ESA. The FWS issued a biological opinion to the BLM that determined the ROW and the amendments to the RMPs were not likely to jeopardize the continued existence of the Mojave desert tortoise or destroy or adversely modify designated critical habitat for the Mojave desert tortoise. In addition, the FWS issued an intra-agency biological opinion which determined that the ITP is not likely to jeopardize the continued existence of the Mojave desert tortoise, Holmgren milkvetch, Shivwits milkvetch, dwarf bear-poppy, Siler pincushion cactus, Gierisch mallow, and Fickeisen plains cactus or result in the adverse modification of critical habitat for any of the above listed species.

On January 13, 2021, the Secretary of the Interior signed a Record of Decision that approved the Northern Corridor ROW application and approved the amendments to the RMPs. The decision approving the ROW was effective immediately. The BLM then signed and issued the ROW grant to UDOT on the same day. Also on January 13, 2021, the FWS Regional Director for Interior Regions 5 and 7 signed a Record of Decision approving the issuance of an ITP to Washington County, and the FWS issued the ITP to Washington County. Because BLM approved the UDOT ROW application, the changed circumstance was triggered, and Zone 6 was formally added to the Reserve.

On June 3, 2021, seven conservation organizations (collectively, Plaintiffs) filed a complaint in the United States District Court for the District of Columbia, Case No. 1:21-cv-01506. Among other claims, Plaintiffs alleged the BLM's ROW decision violated both NEPA and the National Historic Preservation Act (NHPA). The Plaintiffs stated, in part, that the FEIS did not fully address the changed circumstances of wildfire in the region and the impacts it may have on the Mojave desert tortoise, desert tortoise habitat, and the spread of invasive annual grasses. The Plaintiffs also alleged that the BLM failed to comply with the consultation requirements under section 106 of the NHPA. On July 27, 2021, Plaintiffs amended their complaint to include the FWS and additional claims related to NEPA and the ESA.

During the litigation, the United States and Plaintiffs reached a settlement agreement that was signed on August 30, 2023. Prior to executing that agreement, the United States moved for the remand and partial vacatur of BLM's and FWS's 2021 decisions. In the motion, the United States acknowledged that the BLM did not comply with the NHPA and that the agencies had substantial and legitimate concerns that the FEIS may lack sufficient analysis of certain resource effects, including the effects of the construction and use of the Northern Corridor Project in the context of the following: (1) the trend in the increasing frequency and extent of wildfires in the Mojave Desert; (2) the rise of non-native/exotic and invasive vegetation in post-burn areas; and (3) the impacts increased fire and new non-native/exotic and invasive vegetation have on desert tortoise. On September 1, 2023, the Plaintiffs filed a response in support of the United States' motion. On November 16, 2023, the United States District Court for the District of Columbia issued an Order that granted the remand of all decisions associated with the January 2021 Records of Decision issued by the BLM and FWS.

Purpose and Need for the Proposed Action

The BLM's purpose and need for this action is to reconsider the 2018 UDOT ROW application to determine whether the BLM will affirm, affirm with modifications, or terminate the ROW grant. The FWS's purpose and need for this action is to consider whether to amend Washington County's ITP so that it reflects the BLM's reconsideration of UDOT's ROW.

Proposed Action and Alternatives

The Draft SEIS considers six alternatives that include both a specific ROW alignment and the corresponding action required of the FWS regarding the Washington County ITP. The six ROW alternatives analyzed in detail in the Draft SEIS are similar to those included in the FEIS published in November 2020. No new highway alignments that meet UDOT's stated purpose and need for the Northern Corridor highway were identified by the public during the scoping period.

• UDOT ROW Alignment alternative (No Action, or No Change): the BLM would affirm the ROW grant issued to UDOT in 2021 following an alignment that is approximately 4.5 miles long, 1.9 miles of which would be across BLM-managed lands. This alternative would have a similar analysis of effects as the “UDOT Application Alignment for the Northern Corridor” alternative described in the 2020 Final EIS. In this case, the FWS would affirm Washington County's ITP. The changed circumstance related to the construction of the Northern Corridor across the Reserve described in the HCP would remain triggered, and Zone 6 would remain in the Reserve.

• T-Bone Mesa Alignment alternative: the BLM would modify UDOT's ROW grant across public lands in the NCA. This alignment would connect Green Springs Drive on the east to Red Hills Parkway on the west just north of the Pioneer Hills trailhead parking area. Under this alternative, the Northern Corridor would skirt the southern edge of T-Bone Mesa. The Northern Corridor would be approximately 4.2 miles long, 2.2 miles of which would be across BLM-administered lands. In this case, the FWS would affirm Washington County's ITP. The changed circumstance related to the construction of the Northern Corridor across the Reserve described in the HCP would remain triggered, and Zone 6 would remain in the Reserve.

• Southern Alignment alternative: the BLM would modify UDOT's ROW grant across public lands in the NCA. This alignment would skirt the southern border of the NCA, connecting Green Springs Drive on the east to Red Hills Parkway on the west just south of, and slightly encroaching onto, the Pioneer Hills trailhead parking area. The Northern Corridor would be approximately 5.5 miles long, approximately 1.5 miles of which would be across BLM-administered lands. In this case, the FWS would affirm Washington County's ITP. The changed circumstance related to the construction of the Northern Corridor across the Reserve described in the HCP would remain triggered, and Zone 6 would remain in the Reserve.

• Red Hills Parkway Expressway alternative: This alternative would convert Red Hills Parkway into a grade-separated expressway between I-15 and Bluff Street. Under this alternative, UDOT would no longer hold the ROW grant for the Northern Corridor across the NCA. The BLM may need to grant necessary ROW amendments to the City of St. George's existing FLPMA Title V ROW for the Red Hills Parkway if the planned improvements exceed the boundaries of the existing ROW. Under this alternative, the FWS would amend Washington County's ITP because it could no longer assume the Northern Corridor changed circumstance is occurring.

• St. George Boulevard/100 South One-Way Couplet alternative: Under this alternative, UDOT would no longer hold the ROW grant for the Northern Corridor across the NCA. This alternative would include modifications to St. George Boulevard and 100 South to convert the two roadways into a one-way couplet system between I-15 and Bluff Street, wherein St. George Boulevard would only accommodate westbound traffic and 100 South would only accommodate eastbound traffic. While this alternative meets the purpose and need of the project, it would have to be implemented by the City of St. George because it does not cross any BLM-administered lands. Under this alternative, the FWS would amend Washington County's ITP because it could no longer assume the Northern Corridor changed circumstance is occurring.

• Terminate UDOT's ROW alternative: Under this alternative, UDOT would no longer hold the ROW grant for the Northern Corridor across the NCA. This alternative would have a similar analysis of effects as, and represents an equivalency with, the “no action” alternative in the 2020 Final EIS. Under this alternative, the FWS would amend Washington County's ITP because it could no longer assume the Northern Corridor changed circumstance is occurring.

Under the Red Hills Parkway Expressway, St. George Boulevard/100 South One-Way Couplet, and Terminate UDOT's ROW alternatives, the 6,812-acre mitigation area in the southwest area of St. George, known as Reserve Zone 6, would be removed from the Red Cliffs Desert Reserve. However, the 3,471 acres managed by the BLM within Zone 6 would continue to be managed with the protections put in place under the 2021 St. George Field Office RMP amendments. The remaining 3,341 acres of land, which are either privately owned or managed by the Utah Trust Lands Administration, would no longer be afforded special protections by Washington County and would be subject to development under the amended ITP.

The Draft SEIS does not reconsider any amendments to the BLM's RMPs or to Washington County's amended HCP.

Anticipated Permits and Authorizations

The BLM will decide whether to affirm, affirm with modifications, or terminate UDOT's ROW grant. The FWS will determine whether to amend Washington County's ITP for the Mojave desert tortoise consistent with the BLM's reconsideration of UDOT's ROW grant.

Schedule for the Decision-Making Process

The Final SEIS is anticipated to be released in fall 2024 with Records of Decision in November 2024.

Public Involvement Process

A public scoping period for the Draft SEIS was offered between November 16, 2023, and December 28, 2023, having been extended at the request of Washington County and the State of Utah. The scoping period included a public open house held in St. George, Utah on December 6, 2023, with over 200 attendees. A total of 8,993 comment submissions were received, of which 8,145 were form letters, 793 were unique comments, and 55 did not include a comment or were comments not relevant to scoping for the Draft SEIS. The BLM and FWS considered all comments received during the scoping period in preparation of the Draft SEIS. A scoping report is available for public review on the BLM ePlanning project website (see ADDRESSES).

This NOA initiates the Draft SEIS public review process. The BLM and FWS will hold one in-person public meeting during the public comment period. The BLM and FWS will announce the date and time for this meeting at least 15 days prior to the event. Announcements will be made through media releases and posting on the BLM ePlanning project website (see ADDRESSES).

Public review of the Draft SEIS allows the public an opportunity to provide substantive comments on the alternatives and analysis in the Draft SEIS. Public comments often identify factual errors, data gaps, relevant methods, or scientific studies. The BLM and FWS will respond to substantive comments and make appropriate revisions in development of the Final SEIS or explain why a comment did not warrant a change. Non-substantive comments may not receive a response from the BLM and FWS.

Lead and Cooperating Agencies

The BLM and FWS are co-lead agencies. Cooperating agencies consist of the State of Utah Public Lands Policy Coordinating Office, State of Utah Department of Environmental Quality, State of Utah Trust Lands Administration, Washington City, Dixie Metropolitan Planning Organization, City of St. George, City of Ivins, Santa Clara City, City of Hurricane, the Paiute Indian Tribe of Utah, and the Shivwits Band of the Paiute Indian Tribe of Utah.

Additional Information

There may be changes to the Draft SEIS based on information received during the public comment period and the gathering of additional data and analyses. The BLM and FWS invite and encourage detailed comments on all alternatives, alignments, actions, and analyses provided in the Draft SEIS.

The BLM and FWS will continue to consult with Indian Tribal Nations on a government-to-government basis in accordance with Executive Order 13175, BLM Manual Section 1780, and other Departmental policies. Tribal concerns, including impacts on Indian trust assets and potential impacts to cultural resources, will be given due consideration.

Before including your address, phone number, email address, or other personal identifying information in your comment, you should be aware that your entire comment—including your personal identifying information—may be made publicly available at any time. While you can include in your comment a request to withhold your personal identifying information from public review, the agencies cannot guarantee that they will be able to do so.

(Authority: 40 CFR 1506.6, 40 CFR 1506.10)

Gregory Sheehan,
State Director.
Anna Munoz,
Deputy Regional Director.

[FR Doc. 2024-10078 Filed 5-9-24; 8:45 am]

BILLING CODE 4331-25-P